DEPARTMENT OF AGRICULTURE

Agricultural Marketing Service

9 CFR Parts 201, 202, and 206

[Doc. No. AMS-LRRS-23-0014]

Nomenclature Change; Technical Amendment

AGENCY: Agricultural Marketing Service, USDA.

ACTION: Final rule; technical amendment.

SUMMARY: This rule updates obsolete nomenclature in the regulations under the Packers and Stockyards Act, 1921 (Act). Obsolete references to the Grain Inspection, Packers and Stockyards Administration (GIPSA) are changed to the Agricultural Marketing Service (AMS) of the U.S. Department of Agriculture (USDA). References to Packers and Stockyards Programs, Packers and Stockyards Administration, and other obsolete terms are likewise changed to reflect the USDA's, AMS's, and the Packers and Stockyards Division's current organizational structure. Administration of Packers and Stockyards (P&S) activities under the Act was transferred to AMS in 2017.

DATES: Effective September 13, 2023.

FOR FURTHER INFORMATION CONTACT: Laurel L. May, Regulatory Analyst, Agricultural Marketing Service, USDA; telephone: (202) 384-2975 or email: Laurel.May@usda.gov.

SUPPLEMENTARY INFORMATION: This final rule makes technical amendments to regulations in the Code of Federal Regulations (CFR). Parts 201, 202, and 206 of Title 9 of the CFR contains regulations that effectuate the Act (7 U.S.C. 181 et seq.). Several references in parts 201 and 206 reflect administration of P&S activities under GIPSA prior to a USDA reorganization in 2017, at which time those activities were transferred to AMS. See 83 FR 61309; November 29, 2018.

AMS published a final rule on August 30, 2019 (84 FR 45644), to update the regulations to reflect the transfer to AMS. However, some of the necessary changes to the regulations were inadvertently omitted. For example, the term Administration or agency at 7 CFR 201.2(d) is currently defined as the Grain Inspection, Packers and Stockyards Administration (Packers and Stockyards Programs). This rule revises the definition of Administration or Agency in § 201.2(d) to mean the Agricultural Marketing Service.

This rule makes similar changes to nomenclature in the regulations to reflect AMS organizational structure. P&S activities are currently conducted by the Packers and Stockyards Division (PSD) of AMS's Fair Trade Practices Program. PSD regional offices are managed by Regional Directors. Thus, technical amendments to the regulations in this final rule reference AMS, PSD, and Regional Directors. As well, references to forms used in P&S activities are updated to reflect current form numbers assigned by the Office of Management and Budget (OMB). For example, the monthly swine packer report required in § 206.3(c) is currently identified as Form P&SP 341. This rule revises § 206.3(c) to show the report's OMB reassignment as Form PSD 341.

Additionally, this rule corrects a typographical error in § 201.42(g), which provides that savings accounts for shippers' proceeds must be properly designated as a part—not “party”—of the custodial account of a market agency in its fiduciary capacity as trustee of trust funds.

This rule falls within a category of regulatory actions that OMB exempted from Executive Order 12866 review.

This final rule is limited to making nomenclature changes in conformance with USDA organizational structure. Thus, AMS has determined that this rule is not subject to the notice and comment requirements of the Administrative Procedure Act (APA) (5 U.S.C. 553). Additionally, AMS has determined that there is good cause for making this technical amendment final without prior proposal and opportunity for comment because the revisions are not substantive and will have no impact on the regulatory requirements in the affected parts. AMS has determined that public comment on such administrative changes is unnecessary and that there is good cause under the APA for proceeding with a final rule.

Further, because a notice of proposed rulemaking and opportunity for public comment are not required to be given for this rule under the APA or any other law, the analytical requirements of the Regulatory Flexibility Act (5 U.S.C. 601 et seq.) are not applicable. Accordingly, this rule is issued in final form.

In addition, there is good cause to make this rule effective in fewer than 30 days after publication in the Federal Register because the revisions are administrative in nature. Therefore, this final rule is effective upon publication.

List of Subjects

9 CFR Part 201

Confidential business information, Reporting and recordkeeping requirements, Stockyards, Surety bonds, Trade practices.

9 CFR Part 202

Administrative practice and procedure, Stockyards.

9 CFR Part 206

Government contracts, Reporting and recordkeeping requirements, Swine.

For the reasons set forth in the preamble, the Agricultural Marketing Service amends 9 CFR parts 201, 202, and 203 as follows:

PART 201—ADMINISTERING THE PACKERS AND STOCKYARDS ACT

1. The authority citation for part 201 continues to read as follows:

Authority: 7 U.S.C. 181—229c.

2. In § 201.2, revise paragraphs (d) and (f) to read as follows:

§ 201.2 Terms defined.

* * * * *

(d) Administration or agency means the Agricultural Marketing Service.

* * * * *

(f) Regional Director means the Regional Director of the Packers and Stockyards Division (PSD) for a given region or any person authorized to act for the Regional Director.

* * * * *

§ 201.17 [Amended]

3. In § 201.17 (a), remove the text “regional supervisor” and add in its place the text “Regional Director” wherever it appears.

§ 201.28 [Amended]

4. In § 201.28:

a. In the section heading, remove the text “Regional Supervisors” and add in their place the text “Regional Directors”; and

b. In the introductory paragraph, remove in both instances the text “Regional Supervisor” and add in their places the text “Regional Director”.

§ 201.42 [Amended]

5. In § 201.42 (g), remove the word “party” and add in its place the word “part”.

§ 201.72 [Amended]

6. In § 201.72(b), remove the term “P&SP” and add in its place the term “PSD”.

§ 201.73-1 [Amended]

7. In § 201.73-1 introductory paragraph:

a. Remove the text “P&SA Form 215” and add in its place the text “Form PSD 4000”; and

b. Remove in both instances the text “Packers and Stockyards Programs” and add in their places the text “Packers and Stockyards Division”.

§ 201.108-1 [Amended]

8. In § 201.108-1 introductory paragraph, remove in both instances the text “Grain Inspection, Packers and Stockyards Administration” and add in their places the text “Agricultural Marketing Service”.

PART 202—RULES OF PRACTICE GOVERNING PROCEEDINGS UNDER THE PACKERS AND STOCKYARDS ACT

9. The authority citation for part 202 continues to read as follows:

Authority: 7 U.S.C. 228(a); 7 CFR 2.22 and 2.81.

§ 202.2 [Amended]

10. In § 202.2(b), remove the text “Grain Inspection,”.

PART 206—SWINE CONTRACT LIBRARY

11. The authority citation for part 206 continues to read as follows:

Authority: 7 U.S.C. 198-198b; 7 U.S.C. 222.

§ 206.2 [Amended]

12. In § 206.2(e), remove the text “Form P&SP 342” and add in its place the text “Form PSD 342”.

§ 206.3 [Amended]

13. In § 206.3(c), remove the text “Form P&SP 341” and add in its place the text “Form PSD 341”.

Erin Morris,
Associate Administrator, Agricultural Marketing Service.

[FR Doc. 2023-18350 Filed 9-12-23; 8:45 am]

BILLING CODE 3410-02-P